DEPARTMENT OF HEALTH AND HUMAN SERVICES

Food and Drug Administration

[Docket No. 2005N-0410]

Prescription Drug User Fee Act; Public Meeting; Correction

AGENCY: Food and Drug Administration, HHS.

ACTION: Notice of public meeting; correction.

SUMMARY: The Food and Drug Administration is correcting a notice that appeared in the Federal Register of October 18, 2005 (70 FR 60536). The document announced a public meeting on the Prescription Drug User Fee Act (PDUFA). The document was published with typographical errors in the DATES and FOR FURTHER INFORMATION CONTACT sections of the document. This document corrects those errors.

FOR FURTHER INFORMATION CONTACT: Joyce Strong, Office of Policy (HF-27), Food and Drug Administration, 5600 Fishers Lane, Rockville, MD 20857, 301-827-7010.

SUPPLEMENTARY INFORMATION: In FR Doc. 05-20875, appearing on page 60536 in the Federal Register of Tuesday, October 18, 2005, the following corrections are made:

1. On page 60536, in the second column, the third sentence under DATES is corrected to read: “You may register electronically at CBERTrainingSuggestions @cber.fda.gov.”

2. On page 60536, in the second column, in the FOR FURTHER INFORMATION CONTACT section, beginning in the fifth line, the telephone number “301-827-2647” is corrected to read “301-827-5902”.

Dated: October 20, 2005.
Jeffrey Shuren,
Assistant Commissioner for Policy.

[FR Doc. 05-21525 Filed 10-27-05; 8:45 am]

BILLING CODE 4160-01-S